DEPARTMENT OF HEALTH AND HUMAN SERVICES

Administration for Children and Families

[CFDA Number: 93.568]

Proposed Reallotment of Fiscal Year 2021 Funds for the Low Income Home Energy Assistance Program

AGENCY: Office of Community Services (OCS), Administration for Children and Families (ACF), Department of Health and Human Services (HHS).

ACTION: Notice of public comment.

SUMMARY: The ACF, OCS, Division of Energy Assistance (DEA) announces a preliminary determination that funds from the federal fiscal year (FFY) 2021 Low Income Home Energy Assistance Program (LIHEAP) are available for reallotment to states, territories, tribes, and tribal organizations that received FFY 2022 direct LIHEAP grants. The purpose of this award is to redistribute FFY 2021 annual LIHEAP funds that grant recipients were unable to obligate or carry over to FFY 2022. No sub-recipients of these grant recipients or other entities may apply for these funds.

DATES: Comments are due by: October 31, 2022.

ADDRESSES: Comments may be submitted to: Peter Edelman, Program Analyst, Office of Community Services, Administration for Children and Families, 330 C Street SW, 5th Floor; Mail Room 5425; Washington, DC 20201 or via email: peter.edelman@acf.hhs.gov. Comments may also be faxed to (202) 401-5661.

FOR FURTHER INFORMATION CONTACT: Akm Rahman, Program Operations Branch Chief, Division of Energy Assistance, Office of Community Services, 330 C Street SW, 5th Floor; Mail Room 5425; Washington, DC 20201. Telephone: (202) 401-5306; Email: Akm.Rahman@acf.hhs.gov.

SUPPLEMENTARY INFORMATION: After receiving Carryover and Reallotment Reports from FFY 2021 LIHEAP recipients and reconciling the unobligated funds on those reports with the respective Federal Financial Reports, ACF has determined that $711,932 in FFY 2021 LIHEAP funds were available for reallotment for FFY 2022. This determination is based on the reports of 20 recipients, minor corrections to certain amounts available for carryover, and the amounts of funds that these recipients had in their Payment Management System (PMS) accounts. LIHEAP grant recipients submitted the FFY 2021 Carryover and Reallotment Reports to OCS, as required by regulations applicable to LIHEAP at 45 CFR 96.81(b).

The LIHEAP statute allows grant recipients who have funds unobligated at the end of the federal fiscal year for which they are awarded to request that they be allowed to carry over up to 10 percent of their full-year allotments to the next federal fiscal year, (42 U.S.C. 8626(b)(2)). Funds in excess of this amount must be returned to HHS and are subject to reallotment under 42 U.S.C. 8626(b)(1).

FFY 2021 funds appropriated under the American Rescue Plan Act of 2021 (Pub. L. 117-2) were not subject to 42 U.S.C. 8626(b)(2)(B), which caps carryover at 10 percent. Therefore, these funds were not included in the reallotment calculation.

In accordance with 42 U.S.C. 8626(b)(3), ACF notified each of the 20 grant recipients that reported $711,932 of unobligated funds above their carryover caps. In these notices, ACF told each about the amount it returned for de-obligation and the amount that will be redistributed to FFY 2022 grant recipients as part of the reallotment. It also gave each recipient 30 calendar days to provide comments directly to ACF.

If funds are reallotted, then they will be allocated in accordance with 42 U.S.C. 8623 and must be treated by LIHEAP grant recipients that receive them as an amount appropriated for FFY 2022. As FFY 2022 funds, they will be subject to all requirements of the LIHEAP statute, including 42 U.S.C. 8626(b)(2), which requires that a recipient obligate at least 90 percent of its total block grant allocation for a fiscal year by the end of the fiscal year for which the funds are appropriated, that is, by September 30, 2022.

All LIHEAP grant recipients that receive a portion of these funds will be notified of the final reallotment amount redistributed to them for obligation in FFY 2022. This decision will also be published in the Federal Register and in a Dear Colleague Letter that is posted to ACF's website at https://www.acf.hhs.gov/ocs/resource/dear-colleagues.

The FFY 2021 LIHEAP funds that ACF preliminarily expects to become available for reallotment determination come from the following grant recipients in the following amounts:

Name of grant recipient that reported funds to be returned for reallotment | Amount available for reallotment
Bishop Paiute Tribe | $17,531
Colorado River Indian Tribes | 16,914
Cow Creek Band of Umpqua Tribe of Indians | 7,302
Hopland Band of Pomo Indians | 1,755
Jicarilla Apache Nation | 16,873
Kalispel Tribe of Indians | 7,921
Little River Band of Ottawa Indians | 106,187
Makah Tribe | 36,164
Muckleshoot Indian Tribe | 37,669
Nooksack Indian Tribe | 38,535
Oglala Sioux Tribe | 268,413
Paiute Indian Tribe of Utah | 61,183
Pit River Tribe | 9,255
Quileute Tribe | 1,673
Round Valley Indian Tribes | 558
Sac and Fox Nation of Oklahoma | 44,538
Samish Indian Nation | 331
Shawnee Tribe | 3,600
Spokane Tribe of Indians | 19,951
The Delaware Tribe of Indians | 15,579
Total | 711,932

If funds are reallotted, then grant recipients may use them for any purpose authorized under LIHEAP and must add these funds to their total LIHEAP funds payable for FFY 2022 for purposes of calculating statutory caps on administrative costs, carryover, Assurance 16 activities, and weatherization assistance.

Additionally, all recipients of these funds must (1) ensure that they are included in the amounts on Lines 1.1 of their FFY 2022 Carryover and Reallotment Reports; (2) reconcile these funds, to the extent that they received them, on a separate Federal Financial Form (SF-425); and (3) record, on their FFY 2022 Household Reports, households that receive benefits at least partly from these funds. State recipients must also ensure that these funds are included in the Grantee Survey sections of their FFY 2022 LIHEAP Performance Data Forms.

Statutory Authority: 42 U.S.C. 8626(b).

Karen D. Shields,
Senior Grants Policy Specialist, Office of Grants Policy, Office of Administration.

[FR Doc. 2022-21296 Filed 9-29-22; 8:45 am]

BILLING CODE 4184-80-P